DEPARTMENT OF HEALTH AND HUMAN SERVICES

Administration for Children and Families

Submission for OMB Review; Comment Request

Title: National and Tribal Evaluation of the 2nd Generation of the Health Profession Opportunity Grants.

OMB No.: 0970-0462.

Description: The Administration for Children and Families (ACF), U.S. Department of Health and Human Services (HHS) is proposing data collection activities as part of the Health Profession Opportunity Grants (HPOG) Program. ACF has developed a multi-pronged research and evaluation approach for the HPOG program to better understand and assess the activities conducted and their results. Two rounds of HPOG grants have been awarded—the first in 2010 (HPOG 1.0) and the second in 2015 (HPOG 2.0). There are federal evaluations associated with each round of grants. HPOG grants provide funding to government agencies, community-based organizations, post-secondary educational institutions, and tribal-affiliated organizations to provide education and training services to Temporary Assistance for Needy Families (TANF) recipients and other low-income individuals. Under HPOG 2.0, ACF awarded grants to five tribal-affiliated organizations and 27 non-tribal entities. The proposed data collection activities described in this notice will provide data for the implementation studies of the National and Tribal Evaluation of the 2nd Generation of the Health Profession Opportunity Grants (i.e., the HPOG 2.0 National Evaluation and the HPOG 2.0 Tribal Evaluation) as well as the impact study for the HPOG 2.0 National Evaluation. OMB previously approved baseline data collection and informed consent forms for the HPOG 2.0 Evaluations under OMB Control Number 0970-0462. The design for the HPOG 2.0 National Evaluation features an implementation study, cost benefit study, and impact study. This information collection clearance request pertains to the implementation study and impact study.

The goal of the HPOG 2.0 National Evaluation Implementation Study is to describe and assess the implementation, systems change, outcomes and other important information about the operations of the 27 non-tribal HPOG grantees, which are operating 38 distinct programs. To achieve these goals, it is necessary to collect data about the non-tribal HPOG program designs and implementation, HPOG partner and program networks, the composition and intensity of HPOG services received, participant characteristics and HPOG experiences, and participant outputs and outcomes.

The goal of the HPOG 2.0 National Evaluation Impact Study is to measure and analyze key participant outcomes and impacts including completion of education and training, receipt of certificates and/or degrees, earnings, and employment in a healthcare career.

The goal of the HPOG 2.0 Tribal Evaluation is to conduct a comprehensive implementation and outcome evaluation of the five Tribal HPOG 2.0 grantee programs. The evaluation will identify and assess how programmatic health profession training operations are working; determine differences in approaches being used when programs are serving different sub-populations, including participants with different characteristics and skill levels; and identify programs and practices that are successful in supporting the target population to achieve portable industry-recognized certificates or degrees as well as employment-related outcomes.

The information collection activities to be submitted in the request package include: (1) Screening Interview to identify respondents for the HPOG 2.0 National Evaluation first-round telephone interviews. (2) HPOG 2.0 National Evaluation first-round telephone interviews with management and staff. These interviews will collect information about the HPOG program context and about program administration, activities and services, partner and stakeholder roles and networks, and respondent perceptions of the program's strengths. (3) HPOG 2.0 National Evaluation in-person implementation interviews with HPOG personnel will collect information from six HPOG 2.0 programs with promising approaches to the topic areas of specific interest to ACF. (4) HPOG 2.0 National Evaluation participant contact update forms will collect updated participant contact information for impact study participants (treatment and control) every 3 months, during the three year follow-up period. (5) HPOG 2.0 Tribal Evaluation grantee and partner administrative staff interviews will collect information on high-level program strategies, partnerships in place to implement the Tribal HPOG 2.0 program, program development and lessons learned. (6) HPOG 2.0 Tribal Evaluation program implementation staff interviews will collect information from instructors, trainers, recruitment and orientation staff, and providers of program or supportive services on Tribal HPOG 2.0 program processes including recruitment, screening, orientation, provision of supportive services, and program implementation. (7) HPOG 2.0 Tribal Evaluation employer interviews will collect information from local or regional employers that are partnering with Tribal HPOG 2.0 programs or have employed participants, and collect information on employers' impressions of the Tribal HPOG 2.0 program and program graduates. (8) HPOG 2.0 Tribal Evaluation program participant focus groups will collect information on participants' perceptions, experience, outcomes and satisfaction with the Tribal HPOG 2.0 program. (9) HPOG 2.0 Tribal Evaluation program participant completer interviews will collect information on the current employment status of the participants who completed a training program and their perceptions of and satisfaction with the Tribal HPOG 2.0 program. (10) HPOG 2.0 Tribal Evaluation program participant non-completer interviews will collect information on reasons participants left the program, short-term outcomes, how they feel the program could be improved, and any plans for future academic training.

Respondents: For the HPOG 2.0 National Evaluation: HPOG program managers; HPOG program staff; and representatives of partner agencies and stakeholders, including support service providers, education and vocational training providers, Workforce Investment Boards, TANF agencies, and participants at the 27 non-tribal HPOG 2.0 grantees. For the HPOG 2.0 Tribal Evaluation: Tribal HPOG 2.0 program staff; administrative staff at grantee institutions; representatives from partner agencies and stakeholders, including local employers; and Tribal HPOG program participants at the five Tribal HPOG 2.0 grantees.

Annual Burden Estimates
Instrument | Total number of respondents | Annual number of respondents | Number of responses per respondent | Average burden hours per response | Annual burden hours
Additional Burden for Previously Approved Information Collection
PAGES—Participant-Level Baseline Data Collection (participants at non-Tribal grantees) | 4,860 | 1,620 | 1 | .5 | 810
Burden for Newly Requested Information Collection
HPOG 2.0 National Evaluation
Screening Interview to identify respondents for the HPOG 2.0 National Evaluation first-round telephone interviews | 38 | 13 | 1 | .5 | 7
HPOG 2.0 National Evaluation first-round telephone interviews with management and staff | 190 | 63 | 1 | 1.25 | 79
HPOG 2.0 National Evaluation in-person implementation interviews | 60 | 20 | 1 | 1.5 | 30
HPOG 2.0 National Evaluation welcome packet and participant contact update forms | 45,000 | 15,000 | 4 | .1 | 6000
HPOG 2.0 Tribal Evaluation
HPOG 2.0 Tribal Evaluation grantee and partner administrative staff interviews | 105 | 35 | 1 | 1 | 35
HPOG 2.0 Tribal Evaluation program implementation staff interviews | 150 | 50 | 1 | 1.5 | 75
HPOG 2.0 Tribal Evaluation employer interviews | 90 | 30 | 1 | .75 | 23
HPOG 2.0 Tribal Evaluation program participant focus groups | 405 | 135 | 1 | 1.5 | 203
HPOG 2.0 Tribal Evaluation program participant completer interviews | 300 | 100 | 1 | 1 | 100
HPOG 2.0 Tribal Evaluation program participant non-completer interviews | 150 | 50 | 1 | 1 | 50

Estimated Total Annual Burden Hours: 7,412.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2016-25787 Filed 10-25-16; 8:45 am]

BILLING CODE 4184-72-P